NUCLEAR REGULATORY COMMISSION

[Docket No. 70-00036; NRC-2018-0223]

Westinghouse Electric Company, LLC; Hematite Site

AGENCY: Nuclear Regulatory Commission.

ACTION: License termination; issuance.

SUMMARY: The U.S. Nuclear Regulatory Commission (NRC) is providing public notice of the termination of Source Materials License No. SNM-00033. The NRC has terminated the license of the decommissioned Westinghouse Electric Company, LLC Hematite facility in Festus, Missouri and has approved the site for unrestricted release.

DATES: Notice of termination of Source Materials License No. SNM-00033 was issued on September 26, 2018.

ADDRESSES: Please refer to Docket ID NRC-2018-0223 or NRC Docket No. 070-00036 when contacting the NRC about the availability of information regarding this document. You may obtain publicly-available information related to this document using any of the following methods:

• Federal Rulemaking website: Go to http://www.regulations.gov and search for Docket ID NRC-2018-0223. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: James Smith, Office of Nuclear Material Safety and Safeguards, U.S. Nuclear Regulatory Commission, Washington DC 20555-0001; telephone: 301-415-6103, email: James.Smith@nrc.gov.

SUPPLEMENTARY INFORMATION: By letter dated December 20, 2017, the NRC received a request from Westinghouse Electric Company, LLC (Westinghouse) to terminate NRC Source Materials License No. SNM-00033 (ADAMS Accession No. ML17355A043). In this request, Westinghouse stated that it has completed decommissioning and decontamination of the Hematite facility located at 3300 State Road P, Festus, Missouri, in accordance with its approved Decommissioning Plan (ADAMS Accession No. ML112101699).

On the basis of decommissioning activities carried out by Westinghouse, the NRC evaluation of the Final Status Surveys (FSS) and Final Status Survey Report (FSSR), combined with the results of NRC's independent and confirmatory surveys, and on-site inspections, the NRC staff concluded that the site radiological levels meet the requirements in part 20 of title 10 of the Code of Federal Regulations (10 CFR), “Standards for Protection Against Radiation,” section 20.1402, “Radiological criteria for unrestricted use.” A safety evaluation report (SER) documenting the NRC staff's review of Westinghouse's remediation activities, the FSS, and the FSSR of the Hematite site are available in ADAMS under Accession No. ML18241A066. This SER, coupled with Westinghouse providing NRC form 314 and the records required by 10 CFR 70.51(a), documents that the requirements of 10 CFR 20.1402 and 10 CFR 70.38(k) have been met. As such, the NRC considers the site acceptable for unrestricted use, and Source Materials License No. SNM-00033 has been terminated.

Dated at Rockville, Maryland, on September 28, 2018.
For the Nuclear Regulatory Commission.
Andrea Kock,
Acting Director, Division of Decommissioning, Uranium Recovery, and Waste Programs, Office of Nuclear Material Safety and Safeguards.

[FR Doc. 2018-21583 Filed 10-3-18; 8:45 am]

BILLING CODE 7590-01-P